DEPARTMENT OF TRANSPORTATION

Office of the Secretary

Notice of Applications for Certificates of Public Convenience and Necessity and Foreign Air Carrier Permits Filed Under Subpart B (Formerly Subpart Q) During the Week Ending July 29, 2005.

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2005-22001.

Date Filed: July 27, 2005.

Due Date for Answers, Conforming Applications, or Motion to Modify Scope: August 17, 2005.

Description: Application of Hawaii Island Air, Inc., requesting certificate authority to conduct scheduled domestic air transportation with aircraft of more than 60 seats in addition to the scheduled air transportation that the Applicant is currently conducting as a commuter air carrier with aircraft of fewer than 60 seats.

Renee V. Wright,
Program Manager, Docket Operations, Federal Register Liaison.

[FR Doc. 05-16189 Filed 8-15-05; 8:45 am]

BILLING CODE 4910-62-P